DEPARTMENT OF TRANSPORTATION

Federal Highway Administration

Environmental Impact Statement: Sarpy County, NE

AGENCY: Federal Highway Administration (FHWA), DOT.

ACTION: Notice of Intent.

SUMMARY: The FHWA is issuing this notice to advise the public that an Environmental Impact Statement will be prepared for a proposed interchange on U.S. Interstate Highway 80 in Sarpy County, Nebraska.

FOR FURTHER INFORMATION CONTACT: Mr. Edward Kosola, Realty/Environmental Officer, FHWA, Federal Building, Room 220, 100 Centennial Mall North, Lincoln, NE 68508-3851, (402) 437-5765. Mr. Randy Peters, Planning and Project Development Engineer, Nebraska Department of Roads, Box 94759, 1500 Highway 2, Lincoln, NE 68509, (402) 479-4795. Mr. Thomas Lynam, Highway Superintendent, Sarpy County, 15100 South 84th Street, Papillion, NE 68046, (402) 339-4606.

SUPPLEMENTARY INFORMATION: The FHWA in cooperation with the Nebraska Department of Roads and Sarpy County, Nebraska, will prepare an Environmental Impact Statement (EIS) to study a proposed interchange on U.S. Interstate Highway 80 (I-80) at the location of the existing Pflug Road overpass in Sarpy County. The proposed interchange location is approximately three miles east of the Platte River Bridge.

The Pflug Road overpass has recently been reconstructed as part of widening I-80 to six lanes between Omaha and Lincoln. The reconstructed overpass consolidates the Pflug and Ruff Road overpass bridges at one location 1,300 feet southwest of Pflug Road to not preclude possible future interchange improvements, including construction of ramps.

The proposed Pflug Road interchange is shown in the Sarpy County Comprehensive Development Plan adopted by the Sarpy County Board in 2005, as well as in the (Omaha) Metropolitan Area Planning Agency's (MAPA) 2030 Long Range Transportation Plan adopted in 2006. The impetus for the project is anticipated future growth and development in southern Sarpy County and along the I-80 corridor.

Alternatives to be analyzed in the Interchange Justification Report (IJR) and EIS include (1) a partial cloverleaf at the current Pflug Road location, (2) a tight diamond with a skew at the current Pflug Road location, (3) improvements to the existing Gretna interchange, (4) an interchange at the 180th Street location, and (5) the no build alternative. The proposed study area for the alternatives analysis will extend from the Platte River to 180th Street. The study area for the EIS will be based on the area of potential effect for those alternatives carried forward for further analysis.

To date, the main environmental concern that has been expressed is the effect of cumulative impacts on fish and wildlife resources. Concerns have been raised that increased access from the interchange will result in private development that may negatively affect the Platte River.

A Coordination Plan is being prepared for the project to define the agency and public participation process for the environmental review. An agency scoping meeting and a public information meeting are planned. Letters describing the proposed action and soliciting comments will be sent to appropriate federal, state and local agencies, and to private organizations and citizens who are known to be interested in this proposed project. A Draft EIS will be prepared and a public hearing will be held. Public notice will be given of the time and place of the public meetings and public hearing.

To ensure that the full range of issues related to this proposed action are addressed and all significant issues are identified, comments and suggestions are invited from all interested parties. Comments or questions concerning this proposed action and the EIS should be directed to the FHWA or the Nebraska Department of Roads at the address provided.

(Catalog of Federal Domestic Assistance Program Number 20.205, Highway Planning and Construction. The regulations implementing Executive Order 12372 regarding intergovernmental consultation of Federal programs and activities apply to this program.)

Dated: July 19, 2007.
Edward W. Kosola,
Realty/Environmental Officer, Nebraska Division, Federal Highway Administration, Lincoln, Nebraska.

[FR Doc. 07-3652 Filed 7-25-07; 8:45 am]

BILLING CODE 4910-22-M